ENVIRONMENTAL PROTECTION AGENCY

[ER-FRL-9057-6]

Environmental Impact Statements; Notice of Availability

Responsible Agency: Office of Federal Activities, General Information 202-564-5632 or https://www.epa.gov/nepa.

Weekly receipt of Environmental Impact Statements (EIS)

Filed July 19, 2021 10 a.m. EST Through July 26, 2021 10 a.m. EST

Pursuant to 40 CFR 1506.9.

Notice: Section 309(a) of the Clean Air Act requires that EPA make public its comments on EISs issued by other Federal agencies. EPA's comment letters on EISs are available at: https://cdxnodengn.epa.gov/cdx-enepa-public/action/eis/search.

EIS No. 20210101, Final, NOAA, HI, Enhancing Protections for Hawaiian Spinner Dolphins to Prevent Disturbance, Review Period Ends: 08/30/2021, Contact: Kevin Brindock 808-725-5146.

EIS No. 20210102, Draft Supplement, FERC, PA, Atlantic Coast Pipeline and Supply Header Project, Comment Period Ends: 09/13/2021, Contact: Office of External Affairs 866-208-3372.

EIS No. 20210103, Draft, FTA, CA, West Santa Ana Branch Transit Corridor Project Draft Environmental Impact Statement/Environmental Impact Report, Comment Period Ends: 09/13/2021, Contact: Rusty Whisman 213-202-3956.

Dated: July 26, 2021.
Candi Schaedle,
Acting Director, NEPA Compliance Division, Office of Federal Activities.

[FR Doc. 2021-16258 Filed 7-29-21; 8:45 am]

BILLING CODE 6560-50-P